FEDERAL COMMUNICATIONS COMMISSION

47 CFR Part 25

[IB Docket No. 07-253; FCC 07-194]

Satellite Ancillary Terrestrial Components

AGENCY: Federal Communications Commission.

ACTION: Proposed rule.

SUMMARY: Ancillary terrestrial components (ATC) allow MSS operators to integrate terrestrial services into their satellite networks in order to augment coverage in areas where their satellite signals are largely unavailable due to blocking, by re-using their assigned MSS frequencies. In the Big LEO bands, the Federal Communications Commission (Commission) has limited ATC operations to the 1610-1615.5 MHz, 1621.35-1626.5 MHz in the L-band and 2487.5-2493 MHz in the S-band. The Commission seeks comment on expanding the L-band and S-band spectrum in which satellite operator Globalstar, Inc. is authorized to operate ATC. The Commission also seeks comment on what measures would be needed to protect services with which the Mobile-Satellite Service (MSS) shares the S-band.

DATES: Comments due on or before December 19, 2007 and reply comments due on or before January 3, 2008.

ADDRESSES: You may submit comments, identified by IB Docket No. 07-253, by any of the following methods:

• Federal eRulemaking Portal: http://www.regulations.gov. Follow the instructions for submitting comments.

• Federal Communications Commission's Web Site: http://www.fcc.gov/cgb/ecfs/. Follow the instructions for submitting comments.

• Mail: Federal Communications Commission, 445 12th Street, SW., Washington, DC 20554.

• People with Disabilities: Contact the FCC to request reasonable accommodations (accessible format documents, sign language interpreters, CART, etc.) by e-mail: FCC504@fcc.gov or phone: 202-418-2530 or TTY: 202-418-0432.

For detailed instructions for submitting comments and additional information on the rulemaking process, see the SUPPLEMENTARY INFORMATION section of this document.

FOR FURTHER INFORMATION CONTACT: Howard Griboff, 202/418-0657.

SUPPLEMENTARY INFORMATION: Ancillary terrestrial components (ATC) allow MSS operators to integrate terrestrial services into their satellite networks in order to augment coverage in areas where their satellite signals are largely unavailable due to blocking, by re-using their assigned MSS frequencies. In 2003, the Commission adopted the ATC Order, permitting MSS licensees to seek authority to implement ATC to be integrated into MSS networks in MSS bands, including the Big LEO bands. In the Big LEO bands, the Commission limited ATC operations to the 1610-1615.5 MHz, 1621.35-1626.5 MHz and 2492.5-2498 MHz bands and to the specific frequencies authorized for use by the MSS licensee that seeks ATC authority. Subsequently the Commission shifted the S-band ATC block to 2487.5-2493 MHz, so that ATC and the fixed and mobile services allocation at 2495-2500 MHz would not overlap.

The Commission seeks comment on expanding the L-band and S-band spectrum in which Globalstar is authorized to operate ATC. Such an increase in spectrum would allow Globalstar to offer a higher-capacity ATC than would be possible with its currently authorized 11 megahertz of ATC spectrum. The Commission tentatively concludes that ATC is not feasible in the L-band spectrum Globalstar shares with Iridium, at 1617.775-1618.725 MHz. The Commission also tentatively concludes that ATC cannot share spectrum with co-primary Fixed and Mobile services in the 2495-2500 MHz segment of the S-band, and seeks comment on what measures would be needed to protect services with which MSS shares the S-band.

The Notice of Proposed Rulemaking does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

List of Subjects in 47 CFR Part 25

Satellites.

Federal Communications Commission.
Marlene H. Dortch,
Secretary.

[FR Doc. E7-22567 Filed 11-16-07; 8:45 am]

BILLING CODE 6712-01-P